DEPARTMENT OF THE INTERIOR

National Park Service

George Washington Memorial Parkway: Environmental Assessment of Proposed Wireless Telecommunications Facility at Great Falls Park, VA

ACTION: Notice of availability of an environmental assessment (EA) to erect a wireless telecommunications facility (cellular telephone monopole with support facility) that Bell Atlantic Mobile (BAM) has proposed for location on National Park Service (NPS) property at Great Falls Park, Virginia, which is managed by the George Washington Memorial Parkway.

SUMMARY: Pursuant to the Council on Environmental Quality regulations and National Park Service policy, NPS has completed an EA which analyzes five alternatives and discusses others which were considered but rejected. The five alternatives analyzed include: (1) 125-foot monopole; (2) 150-foot monopole as proposed by BAM; (3) 150-foot monopole with two larger co-locator buildings; (4) Alternative technology; and, (5) No action. The specific location proposed by BAM is the site where an existing 85-foot NPS antenna tower is located along the Ridge Trail approximately one-half mile from the junction of Old Dominion Drive and Georgetown Pike as one enters the park headed north along Old Dominion. NPS is soliciting comments on this EA. These comments will be considered in evaluating it and in making decisions pursuant to the National Environmental Policy Act.

DATES: Comments on the EA are due by Friday, June 23, 2000. Two public hearings on the EA will be held. The first will be at the Great Falls Park Visitor Center on Monday June 5, 2000, 7 p.m.-8:30 p.m. The entrance road into the park is located at the intersection of Old Dominion Drive and Georgetown Pike. The second will be held on Wednesday, June 7, 2000, 7 p.m.-8:30 p.m. in the Brooke Hall meeting room at Rockwood Manor, 11001 MacArthur Boulevard, Potomac, Maryland. Rockwood Manor is located in Rockwood Park, southeast of the intersection of MacArthur and Falls Road in the vicinity of the C&O Canal National Historical Park and Trail, approximately 1.5 miles west of the Clara Barton Parkway.

ADDRESSES: Comments may be sent to Audrey Calhoun, Superintendent, George Washington Memorial Parkway, c/o Turkey Run Park, McLean, VA 22101 or via e-mail to gwmp_superintendent@nps.gov. Copies of the EA have been mailed to agencies, groups, and individuals on the project mailing list. A copy of the EA can also be found at the George Washington Memorial Parkway Headquarters along the northbound lane of the parkway in Turkey Run Park, McLean, Virginia. Turkey Run Park is located north of the CIA exit and south of Interstate 495. Additionally, the document may be viewed on the park's web page at http://www.nps.gov/gwmp/grfa by clicking on the link to the Environmental Assessment.

FOR FURTHER INFORMATION CONTACT: Ms. Audrey Calhoun, Superintendent, George Washington Memorial Parkway, c/o Turkey Run Park, McLean, VA 22101; Telephone: (703) 289-2500.

Dated: May 30, 2000.
Audrey F. Calhoun,
Superintendent.

[FR Doc. 00-14002 Filed 6-2-00; 8:45 am]

BILLING CODE 4310-70-M